DEPARTMENT OF THE TREASURY

Office of Foreign Assets Control

31 CFR Part 548

Publication of Belarus Sanctions Regulations Web General Licenses 3, 4, 5, 6, and 7

AGENCY: Office of Foreign Assets Control, Treasury.

ACTION: Publication of web general licenses.

SUMMARY: The Department of the Treasury's Office of Foreign Assets Control (OFAC) is publishing five general licenses (GLs) issued pursuant to the Belarus Sanctions Regulations: GLs 3, 4, 5, 6, and 7, each of which was previously made available on OFAC's website.

DATES: GL 3 was issued on June 21, 2021. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On June 21, 2021, OFAC issued GL 3 to authorize certain transactions otherwise prohibited by the Belarus Sanctions Regulations, 31 CFR part 548 (the BSR). On August 9, 2021, OFAC issued GL 4, and on December 2, 2021, OFAC issued GL 5, each to authorize certain transactions otherwise prohibited by Executive Order (E.O.) 14038 of August 9, 2021, “Blocking Property of Additional Persons Contributing to the Situation in Belarus” (86 FR 43905, August 11, 2021). On February 24, 2022, OFAC issued GL 6 to authorize certain transactions otherwise prohibited by the BSR. On February 24, 2022, OFAC issued GL 7 to authorize certain transactions otherwise prohibited by the BSR and E.O. 14038. On March 22, 2023, OFAC incorporated the prohibitions of E.O. 14038, as well as any further Executive orders issued pursuant to the national emergency declared in E.O. 13405 of June 16, 2006, “Blocking Property of Certain Persons Undermining Democratic Processes or Institutions in Belarus” (71 FR 35485, June 20, 2006), into the BSR. Each GL was made available on OFAC's website (www.treas.gov/ofac) when it was issued. The text of these GLs is provided below.

OFFICE OF FOREIGN ASSETS CONTROL

Belarus Sanctions Regulations

31 CFR Part 548

GENERAL LICENSE NO. 3

Authorizing Certain Transactions With the State Security Committee of the Republic of Belarus

(a) Except as provided in paragraph (b) of this general license, all transactions and activities prohibited by the Belarus Sanctions Regulations, 31 CFR part 548 (the BSR), involving the State Security Committee of the Republic of Belarus (the Belarusian KGB) are authorized, provided that such transactions and activities are necessary and ordinarily incident to:

(1) Requesting, receiving, utilizing, paying for, or dealing in licenses, permits, certifications, or notifications issued or registered by the Belarusian KGB for the importation, distribution, or use of information technology products in Belarus, provided that (i) the exportation, reexportation, or provision of any goods or technology that are subject to the Export Administration Regulations, 15 CFR parts 730 through 774, is licensed or otherwise authorized by the Department of Commerce; and (ii) the payment of any fees to the Belarusian KGB for such licenses, permits, certifications, or notifications does not exceed $5,000 in any calendar year;

Note to paragraph (a)(1). Except for the limited purposes described in paragraph (a)(1), this paragraph does not authorize the exportation, reexportation, or provision of goods or technology to or on behalf of the Belarusian KGB.

(2) Complying with law enforcement or administrative actions or investigations involving the Belarusian KGB; and

(3) Complying with rules and regulations administered by the Belarusian KGB.

(b) This general license does not authorize:

(1) The transfer of any property or debiting of any account blocked pursuant to any Executive order, statute, or 31 CFR chapter V; or

(2) Any transactions or activities otherwise prohibited by the BSR, prohibited by any other part of 31 CFR chapter V, statute, or Executive order, or involving any blocked person other than the blocked person described in paragraph (a) of this general license.

Bradley T. Smith,

Acting Director, Office of Foreign Assets Control.

Dated: June 21, 2021.

OFFICE OF FOREIGN ASSETS CONTROL

Executive Order of August 9, 2021

Blocking Property of Additional Persons Contributing to the Situation in Belarus

GENERAL LICENSE NO. 4

Authorizing the Wind Down of Transactions Involving Belaruskali OAO

(a) Except as provided in paragraph (b) of this general license, all transactions and activities prohibited by Executive Order (E.O.) of August 9, 2021 that are ordinarily incident and necessary to the wind down of transactions involving Belaruskali OAO, or any entity in which Belaruskali OAO owns, directly or indirectly, a 50 percent or greater interest, are authorized through 12:01 a.m. eastern standard time, December 8, 2021.

(b) This general license does not authorize any transactions or activities otherwise prohibited by E.O. of August 9, 2021, or prohibited by any part of 31 CFR chapter V, statute, or other E.O., or involving any blocked persons other than the blocked persons identified in paragraph (a) of this general license.

Bradley T. Smith,

Acting Director, Office of Foreign Assets Control.

Dated: August 9, 2021.

OFFICE OF FOREIGN ASSETS CONTROL

Executive Order 14038 of August 9, 2021

Blocking Property of Additional Persons Contributing to the Situation in Belarus

GENERAL LICENSE NO. 5

Authorizing the Wind Down of Transactions Involving Open Joint Stock Company Belarusian Potash Company or Agrorozkvit LLC

(a) Except as provided in paragraph (b) of this general license, all transactions and activities prohibited by Executive Order (E.O.) 14038 that are ordinarily incident and necessary to the wind down of transactions involving Open Joint Stock Company Belarusian Potash Company (BPC) or Agrorozkvit LLC, or any entity in which BPC or Agrorozkvit LLC owns, directly or indirectly, individually or in the aggregate, a 50 percent or greater interest, including the wind down of such transactions in which Belaruskali OAO has a property interest, are authorized through 12:01 a.m. eastern standard time, April 1, 2022.

(b) This general license does not authorize any transactions or activities otherwise prohibited by E.O. 14038, or prohibited by any part of 31 CFR chapter V, statute, or other E.O., or involving any blocked persons except as authorized in paragraph (a) of this general license.

Bradley T. Smith,

Acting Director, Office of Foreign Assets Control.

Dated: December 2, 2021.

OFFICE OF FOREIGN ASSETS CONTROL

Belarus Sanctions Regulations

31 CFR Part 548

GENERAL LICENSE NO. 6

Official Business of the United States Government

All transactions prohibited by the Belarus Sanctions Regulations, 31 CFR 548, that are for the conduct of the official business of the United States Government by employees, grantees, or contractors thereof are authorized.

Note to General License No. 6. See also section 9 of Executive Order 14038 of August 9, 2021, which exempts transactions for the conduct of the official business of the Federal Government by employees, grantees, or contractors thereof.

Andrea M. Gacki,

Director, Office of Foreign Assets Control.

Dated: February 24, 2022.

OFFICE OF FOREIGN ASSETS CONTROL

Belarus Sanctions Regulations

31 CFR Part 548

Executive Order 14038 of August 9, 2021

Blocking Property of Additional Persons Contributing to the Situation in Belarus

GENERAL LICENSE NO. 7

Official Business of Certain International Organizations and Entities

All transactions prohibited by the Belarus Sanctions Regulations, 31 CFR 548, or Executive Order 14038 that are for the conduct of the official business of the following entities by employees, grantees, or contractors thereof are authorized:

(a) The United Nations, including its Programmes, Funds, and Other Entities and Bodies, as well as its Specialized Agencies and Related Organizations;

(b) The International Centre for Settlement of Investment Disputes (ICSID) and the Multilateral Investment Guarantee Agency (MIGA);

(c) The African Development Bank Group, the Asian Development Bank, the European Bank for Reconstruction and Development, and the Inter-American Development Bank Group (IDB Group), including any fund entity administered or established by any of the foregoing; and

(d) The International Committee of the Red Cross and the International Federation of Red Cross and Red Crescent Societies.

Andrea M. Gacki,

Director, Office of Foreign Assets Control.

Dated: February 24, 2022.

Andrea M. Gacki,
Director, Office of Foreign Assets Control.

[FR Doc. 2023-11868 Filed 6-5-23; 8:45 am]

BILLING CODE P